NATIONAL FOUNDATION FOR THE ARTS AND THE HUMANITIES

Institute of Museum and Library Services; Notice of Proposed Information Collection Request: “Museums Empowered: Professional Development and Capacity Building Opportunities for Museums”—A Museums for America Special Initiative

AGENCY: Institute of Museum and Library Services, National Foundation for the Arts and the Humanities.

ACTION: Notice, request for comments, collection of information.

SUMMARY: The Institute of Museum and Library Service (“IMLS”) as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments concerning Museums Empowered: Professional Development and Capacity Building Opportunities for Museums—A Museums for America Special Initiative.

A copy of the proposed information collection request can be obtained by contacting the individual listed below in the ADDRESSES section of this notice.

DATES: Written comments must be submitted to the office listed in the ADDRESSES section below on or before December 12, 2016.

ADDRESSES: For a copy of the documents contact: Mark Isaksen, Senior Museum Program Officer, Institute of Museum and Library Services, 955 L'Enfant Plaza North SW., Suite 4000, Washington, DC 20024. Mr. Isaksen can be reached by telephone: 202-653-4662; fax: 202-653-4667; email: misaksen@imls.gov or by or by teletype (TTY/TDD) for persons with hearing difficulty at 202-653-4614.

SUPPLEMENTARY INFORMATION:

Background

The Institute of Museum and Library Services is the primary source of federal support for the Nation's 123,000 libraries and 35,000 museums. The Institute's mission is to inspire libraries and museums to advance innovation, learning and civic engagement. We provide leadership through research, policy development, and grant making. IMLS provides a variety of grant programs to assist the Nation's museums and libraries in improving their operations and enhancing their services to the public. (20 U.S.C. 9101 et seq.).

The IMLS is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

II. Current Actions

To administer a special initiative in the Museums for America (MFA) grant program titled Museums Empowered: Professional Development and Capacity Building Opportunities for Museums—A Museums for America Special Initiative.

Museums for America (MFA) grants support projects that strengthen the ability of an individual museum to serve its public. This special MFA initiative will provide professional development and capacity building opportunities for eligible museums.

As centers of innovation and discovery, as well as catalysts of community revitalization, museums are at the forefront of change in our communities. Like any other institution, museums need to remain dynamic to respond to fast-evolving technological advances and changing demographics. Museums also need to generate and share outcomes-based data and results of their community impact and develop sustainable organizational structures and strategies for continued growth and vitality. Professional Development is critical for museums to deliver on these areas of need.

To support and empower museums of all sizes and disciplines in responding to the evolving needs and changes, this MFA special initiative has four areas of focus for professional development and capacity building 1. Diversity and Inclusion 2. Digital Technology 3. Evaluation 4. Organizational Management. Potential projects will address one of these four priority areas and help strengthen the capability of an individual museum to better serve its public.

Funded projects may support a wide variety of training opportunities for museum staff at a variety of levels (senior leadership, middle management, front-line staff, interns and volunteers) and in various lines of museum work or a combination of (education and outreach, interpretation, curation, registration, conservation, exhibition design, administration, finance, marketing, public relations, community engagement, visitor services security and other).

Agency: Institute of Museum and Library Services.

Title: “Museums Empowered: Professional Development and Capacity Building Opportunities for Museums”—A Museums for America Special Initiative.

OMB Number: TBD.

Agency Number: 3137.

Frequency: One time.

Affected Public: Museums that meet the IMLS Museums for America institutional eligibility criteria.

Number of Respondents: 100.

Estimated Time per Respondent: 40 hours.

Total Burden Hours: 4,000.

Total Annualized cost to respondents: $109,600.00.

Total Annualized capital/startup costs: 0.

Total Annualized Cost to Federal Government: $13,651.84.

Public Comments Invited: Comments submitted in response to this notice will be summarized and/or included in the request for OMB's clearance of this information collection.

FOR FURTHER INFORMATION CONTACT: Stephanie Burwell, Chief Information Officer, Office of the Chief Information Officer, Institute of Museum and Library Services, 955 L'Enfant Plaza North SW., Suite 4000, Washington, DC 20024-2135. Mrs. Burwell can be reached by Telephone: 202-653-4684, Fax: 202-653-4625, or by email at sburwell@imls.gov or by teletype (TTY/TDD) at 202-653-4614. Office hours are from 8:30 a.m. to 5 p.m., E.T., Monday through Friday, except Federal holidays.

Dated: October 6, 2016.
Kim Miller,
Grants Management Specialist.

[FR Doc. 2016-24681 Filed 10-12-16; 8:45 am]

BILLING CODE 7036-01-P